DEPARTMENT OF ENERGY

Senior Executive Service; Performance Review Board

AGENCY: U.S. Department of Energy.

ACTION: SES Performance Review Board Standing Register.

SUMMARY: This notice provides the Performance Review Board Standing Register for the Department of Energy. This listing supersedes all previously published lists of PRB members.

DATES: These appointments are effective as of September 30, 2012.

ADAMS, VINCENT NMN

ADCOCK, DONALD E

AIYAR, PRIYA R

ALEXANDER, KATHLEEN B

ALLISON, JEFFREY M

AMARAL, DAVID M

ANDERSON, CYNTHIA V

ANDERSON, ROBERT T

ANDREWS, CLAUDIA R

AOKI, STEVEN NMN

ARANGO III, JOSEPH NMN

ASCANIO, XAVIER NMN

ATKINS, ARTHUR G

AZAR, LAUREN L

BAKER, KENNETH E

BARHYDT, LAURA L

BATTERSHELL, CAROL J

BEAMON, JOSEPH A

BEARD, JEANNE M

BEARD, SUSAN F

BEAUSOLEIL, GEOFFREY L

BEKKEDAHL, LARRY N

BELL, MELODY C

BIENIAWSKI, ANDREW J

BIERBOWER, WILLIAM J

BISHOP, CLARENCE T

BISHOP, TRACEY L

BLACK, STEVEN K

BOARDMAN, KAREN L

BODI, F LORRAINE

BONILLA, SARAH J

BORGSTROM, CAROL M

BOSCO, PAUL NMN

BOUDREAU, ROBERT N

BOULAY, TIMOTHY M

BOULDEN III, JOHN S

BOWHAN, BRETT R

BOWMAN, DAVID R

BOYD, DAVID O

BOYKO, THOMAS R

BOYLE, WILLIAM J

BREMER, JOHN D

BRESE, ROBERT F

BROTT, MATTHEW J

BROWN, DAVID S

BROWN, FRED L

BROWN, STEPHANIE H

BRYAN, WILLIAM N

BURROWS, CHARLES W

BUTTRESS, LARRY D

CADIEUX, GENA E

CALBOS, PHILIP T

CALLAHAN, SAMUEL N

CAMPAGNONE, MARI-JOSETTE N

CAMPBELL II, HUGH T

CANNON, SCOTT C

CAROSINO, ROBERT M

CARR, MICHAEL S

CERVENY, THELMA J

CHABAY, JOHN E

CHALK, STEVEN G

CHARBONEAU, STACY L

CHEN, YU-HAN NMN

CHOI, JOANNE Y

CHUNG, DAE Y

CLAPPER, DANIEL R

CLARK, DIANA D

CLINTON, RITA M

COHEN, DANIEL NMN

COLLAZO, YVETTE T

CONTI, JOHN J

COOPER, JAMES R

COOPER, SUZANNE BENNETT

CORBIN, ROBERT F

COREY, RAY J

CRAIG JR, JACKIE R

CRANDALL, DAVID H

CRAWFORD, GLEN D

CROUTHER, DESI A

CROWELL, BRADLEY R

CUGINI, ANTHONY V

CUMMINS, KELLY NICOLE

CUTLER, THOMAS RUSSELL

DAVENPORT, SHARI T

DAVIS, KIMBERLY A

DAVIS, PATRICK B

DEAROLPH, DOUGLAS J

DECKER, ANITA J

DEENEY, CHRISTOPHER NMN

DEHAVEN, DARREL S

DEHMER, PATRICIA M

DEHORATIIS JR, GUIDO NMN

DELHOTAL, KATHERINE CASEY

DELWICHE, GREGORY K

DETWILER, RALPH P

DIAMOND, BRUCE M

DICAPUA, MARCO S

DICKENSON, HOWARD E

DIFIGLIO, CARMEN NMN

DIKEAKOS, MARIA V

DIXON, ROBERT K

DOWELL, JONATHAN A

DRUMMOND, WILLIAM K

DURANT, CHARLES K

ECKROADE, WILLIAM A

EHLI, CATHY L

ELKIND, JONATHAN H

ELY, LOWELL V

ERHART, STEVEN C

ESCHENBERG, JOHN R

FERRARO, PATRICK M

FLETCHER, THOMAS W

FLOHR, CONNIE M

FLYNN, KAREN L

FRANCO JR., JOSE R

FRANKLIN, RITA R

FRANTZ, DAVID G

FREMONT, DOUGLAS E

FRESCO, MARY ANN E

FURRER, ROBIN R

FURSTENAU, RAYMOND V

FYGI, ERIC J

GAFFNEY, BARRY A

GALLAGHER, CHRISTIANA NMN

GAMAGE, SARAH L

GARCIA, ANNA M

GASPEROW, LESLEY A

GEERNAERT, GERALD L

GEISER, DAVID W

GELISKE, TERRY M

GELLES, CHRISTINE M

GENDRON, MARK O

GERRARD, JOHN E

GIBBS, ROBERT C

GIBSON JR, WILLIAM C

GILBERTSON, MARK A

GILLO, JEHANNE E

GOLAN, PAUL M

GOLDSMITH, ROBERT NMN

GOLUB, SAL JOSEPH

GOODRUM, WILLIAM S

GOODWIN, KARL E

GORDON, THEANNE E

GREENAUGH, KEVIN C

GREENWOOD, JOHNNIE D

GRIEGO, JUAN L

GROF-TISZA, LAJOS E

GROSE, AMY E

GRUENSPECHT, HOWARD K

GUEVARA, ARNOLD E

GUEVARA, KAREN C

HALE, ANDREW M

HALE, JOHN H

HALLMAN, TIMOTHY J

HANDWERKER, ALAN I

HANLON, PETER H

HANNIGAN, JAMES J

HARDWICK JR, RAYMOND J

HARMS, TIMOTHY C

HARP, BENTON J

HARRELL, JEFFREY P

HARRINGTON, PAUL G

HARRIS, ROBERT J

HARROD, WILLIAM J

HARVEY, STEPHEN J

HELD, EDWARD B

HENDERSON III, CLYDE H

HENNEBERGER, KAREN O

HENNEBERGER, MARK W

HERCZEG, JOHN W

HERRERA, C ROBERT D

HICKMAN, MICHAEL O

HINE, SCOTT E

HINTZE, DOUGLAS E

HITCHCOCK, DANIEL A

HOAG, DANIEL KEITH

HOGAN, KATHLEEN B

HOLECEK, MARK L

HOLLAND, RALPH E

HOLLETT, DOUGLAS W

HOLLRITH, JAMES W

HORTON, LINDA L

HOWARD, MICHAEL F

HOWELL JR, J T

HUIZENGA, DAVID G

HURLBUT, BRANDON K

JOHNS, CHRISTOPHER S

JOHNSON JR, THOMAS NMN

JOHNSON, DAVID F

JOHNSON, ROBERT SHANE

JOHNSON, SANDRA L

JONAS, DAVID S

JONES, GREGORY A

JONES, MARCUS E

JONES, WAYNE NMN

JUJ, HARDEV S

KAEMPF, DOUGLAS E

KAPLAN, STAN M

KAUFFMAN, RICHARD L

KEARNEY, JAMES H

KELLY, HENRY C

KELLY, JOHN E

KELLY, LARRY C

KENCHINGTON, HENRY S

KENDELL, JAMES M

KETCHAM, TIMOTHY E

KHAN, TARIQ M

KIGHT, GENE H

KIM, DONG K

KIMBERLING, LINDA S

KIRCHHOFF, STEPHEN A

KLARA, SCOTT M

KLAUSING, KATHLEEN A

KLING, JON NMN

KNOELL, THOMAS C

KNOLL, WILLIAM S

KOLB, INGRID A C

KOURY, JOHN F

KROL, JOSEPH J

KUNG, HUIJOU HARRIET

KUSNEZOV, DIMITRI F

LAGDON JR, RICHARD H

LAWRENCE, ANDREW C

LAWRENCE, STEVEN J

LEATHLEY, KIMBERLY A

LECKEY, THOMAS J

LEE, TERRI TRAN

LEGG, KENNETH E

LEHMAN, DANIEL R

LEIFHEIT, KEVIN R

LEISTIKOW, DANIEL A

LEMPKE, MICHAEL K

LENHARD, JOSEPH A

LERSTEN, CYNTHIA A

LEVITAN, WILLIAM M

LEWIS III, CHARLES B

LEWIS, ROGER A

LINGAN, ROBERT M

LIVENGOOD, JOANNA M

LLUY, PAUL A

LOCKWOOD, ANDREA K

LOWE, OWEN W

LOWERY, FRANK JOSEPH MICHA

LOYD, RICHARD NMN

LUCAS, JOHN T

LUSHETSKY, JOHN M

LYNCH, TIMOTHY G

MACINTYRE, DOUGLAS M

MAINZER, ELLIOT E

MARCINOWSKI III, FRANCIS N

MARKOVITZ, ALISON J

MARLAY, ROBERT C

MARMOLEJOS, POLI A

MARTIN, JARED L

MCARTHUR, BILLY R

MCBREARTY, JOSEPH A

MCCONNELL, JAMES J

MCCORMICK, MATTHEW S

MCGINNIS, EDWARD G

MCGUIRE, PATRICK W

MCKEE, BARBARA N

MCKENZIE, JOHN M

MCRAE, JAMES BENNETT

MEACHAM, A AVON

MEEKS, TIMOTHY J

MELAMED, ELEANOR NMN

MELENDEZ, CARMELO NMN

MELLINGTON, STEPHEN A

MENDELSOHN, CATHERINE R

MILLIKEN, JOANN NMN

MINVIELLE, THOMAS M

MIOTLA, DENNIS M

MOE, DARRICK C

MOLLOT, DARREN J

MONETTE, DEBORAH D

MONTOYA, ANTHONY H

MOODY III, DAVID C

MOORE, JOHNNY O

MOORER, RICHARD F

MOREDOCK, J EUN

MORTENSON, VICTOR A

MOURY, MATTHEW B

MUELLER, TROY J

MURPHIE, WILLIAM E

MURPHY, JAMES B

MUSTIN, TRACY P

NAPLES, ELMER M

NAPOLITANO, SAMUEL A

NASSIF, ROBERT J

NAVIN, JEFFREY M

NICHOLS, DON F

NICOLL, ERIC G

NWACHUKU, FRANCES I

O'BRIEN, JAMES B

O'CONNOR, STEPHEN C

O'CONNOR, THOMAS J

ODER, JOSEPH M

O'KONSKI, PETER J

OLENCZ, JOSEPH NMN

OLIVER, LEANN M

OLIVER, STEPHEN R

OSBORN II, ROBERT J

OSHEIM, ELIZABETH L

OWENDOFF, JAMES M

PAVETTO, CARL S

PAYNE, JANIE L

PEARSON, VIRGINIA A

PEEK, MICHAEL A

PENRY, JUDITH M

PHAN, THOMAS H

PODONSKY, GLENN S

PORTER, STEVEN A

POWELL, CYNTHIA ANN

PROCARIO, MICHAEL P

PROVENCHER, RICHARD B

PURUCKER, ROXANNE E

RAINES, ROBERT B

RASAR, KIMBERLY D

RHODERICK, JAY E

RICHARDS, AUNDRA M

RICHARDSON, SUSAN S

RISSER, ROLAND J

ROACH, RANDY A

RODGERS, DAVID E

RODGERS, STEPHEN J

ROEGE, WILLIAM H

ROHLFING, ERIC A

ROY, MELL J

SALMON, JEFFREY T

SAMUELSON, SCOTT L

SATYAPAL, SUNITA NMN

SCHAAL, ALFRED MICHAEL

SCHEINMAN, ADAM M

SCHOENBAUER, MARTIN J

SCHREIBER, BERTA L

SCHUNEMAN, PATRICIA J

SCOTT, RANDAL S

SCOTT, ROBERT W

SEIDLER, PAUL E

SENA, RICHARD F

SHEELY, KENNETH B

SHEPPARD, CATHERINE M

SHOOP, DOUG S

SHORT, STEPHANIE A

SILVERSTEIN, BRIAN L

SIMONSON, STEVEN C

SKUBEL, STEPHEN C

SMITH, CHRISTOPHER A

SMITH, KEVIN W

SMITH, THOMAS Z

SMITH-KEVERN, REBECCA F

SNIDER, ERIC S

SNYDER, ROGER E

SPEARS, TERREL J

SPERLING, GILBERT P

STAKER, THOMAS R

STEARRETT, BARBARA H

STENSETH, WILLIAM LYNN

STEPHENSON, APRIL G

STONE, BARBARA R

STREIT, LISA D

STUCKY, JEAN SEIBERT

SURASH, JOHN E

SWEETNAM, GLEN E

SYKES, MERLE L

SYNAKOWSKI, EDMUND J

TALBOT JR, GERALD L

THOMPSON, MICHAEL A

THRESS JR, DONALD F

TILDEN, JAY A

TOCZKO, JAMES E

TOMER, BRADLEY J

TRAUTMAN, STEPHEN J

TRIAY, INES R

TURNER, CHRISTOPHER MARK

TURNER, SHELLEY P

TURNURE, JAMES T

TYBOROWSKI, TERESA ANN

TYNER, TERESA M

UNRUH, TIMOTHY D

URIE, MATTHEW C

VALDEZ, WILLIAM J

VAN DAM, JAMES W

VANGENDEREN, HEIDI NMN

VAVOSO, THOMAS G

VEGA, GILBERT NMN

VENUTO, KENNETH T

VILLAR, JOSE A

WADDELL, JOSEPH F

WAISLEY, SANDRA L

WARD, GARY K

WARNICK, WALTER L

WARREN, BRADLEY S

WATKINS, EDWARD F

WEATHERWAX, SHARLENE C

WEIS, MICHAEL J

WELLING, DAVID CRAIG

WESTON-DAWKES, ANDREW P

WHITNEY, JAMES M

WILBER, DEBORAH A

WILCHER, LARRY D

WILLIAMS, ALICE C

WILLIAMS, RHYS M

WILLIAMS, THOMAS D

WILSON JR, THOMAS NMN

WOOD, JAMES F

WORLEY, MICHAEL N

WORTHINGTON, JON C

WORTHINGTON, PATRICIA R

WRIGHT, STEPHEN J

WYKA JR, THEODORE A

YEH, DAVID Y

YOSHIDA, PHYLLIS G

ZABRANSKY, DAVID K

ZAMORSKI, MICHAEL J

ZEH, CHARLES M

ZIEMIANSKI, EDWARD J

Issued in Washington, DC, October 18, 2012.
Sarah J. Bonilla,
Acting Chief Human Capital Officer, Office of the Chief Human Capital Officer.

[FR Doc. 2012-26189 Filed 10-23-12; 8:45 am]

BILLING CODE 6450-01-P